FEDERAL MARITIME COMMISSION

Agency Information Collection Activities: Submission for OMB Review; Comment Request

AGENCY: Federal Maritime Commission.

ACTION: Final notice of submission for OMB review.

SUMMARY: In accordance with the Paperwork Reduction Act of 1995, the Federal Maritime Commission (FMC or Commission) hereby gives notice that it has submitted to the Office of Management and Budget a request for an extension of the existing collection requirements under 46 CFR Part 535—Ocean Common Carrier and Marine Terminal Operator Agreements Subject to the Shipping Act of 1984. The FMC has requested an extension of an existing collection as listed below.

DATES: Written comments must be submitted on or before October 10, 2013.

ADDRESSES: Comments should be addressed to:

Office of Information and Regulatory Affairs, Office of Management and Budget, Attention: Desk Officer for FMC, 725—17th Street NW., Washington, DC 20503, OIRA_Submission@OMB.EOP.GOV, Fax (202) 395-5806.

and to:

Vern Hill, Managing Director, Office of the Managing Director, Federal Maritime Commission, 800 North Capitol Street NW., Washington, DC 20573, (202) 523-5800, omd@fmc.gov.

FOR FURTHER INFORMATION CONTACT: Copies of the submission(s) may be obtained by contacting Donna L. Lee on 202-523-5800 or email: dlee@fmc.gov.

SUPPLEMENTARY INFORMATION: A notice that FMC would be submitting this request was published in the Federal Register on June 26, 2013 (78 FR 38335) allowing for a 60-day comment period. No comments were received.

The FMC hereby informs potential respondents that an agency may not conduct or sponsor, and that a person is not required to respond to, a collection of information unless it displays a currently valid OMB control number.

Information Collection Open for Comment

Title: 46 CFR Part 535—Ocean Common Carrier and Marine Terminal Operator Agreements Subject to the Shipping Act of 1984.

OMB Control Number: 3072-0045 (Expires September 30, 2013).

Abstract: Section 4 of the Shipping Act of 1984, 46 U.S.C. 40301(a)-(c), identifies certain agreements between or among ocean common carriers and marine terminal operators (MTOs) that fall within the jurisdiction of that Act. Section 5 of the Act, 46 U.S.C. 40302, requires that carriers and MTOs file those agreements with the Federal Maritime Commission. Section 6 of the Act, 46 U.S.C. 40304, 40306, and 41307(b)-(d), specifies the Commission actions that may be taken with respect to filed agreements, including requiring the submission of additional information. Section 15 of the Act, 46 U.S.C. 40104, authorizes the Commission to require that common carriers, among other persons, file periodic or special reports. Requests for additional information and the filing of periodic or special reports are meant to assist the Commission in fulfilling its statutory mandate of overseeing the activities of the ocean transportation industry. These reports are necessary so that the Commission can monitor agreement parties' activities to determine how or if their activities will have an impact on competition.

Current Actions: There are no changes to this information collection, and it is being submitted for extension purposes only.

Type of Review: Extension.

Needs and Uses: The Commission staff uses the information filed by agreement parties to monitor their activities as required by the Shipping Act of 1984. Under the general standard set forth in section 6(g) of the Act, 46 U.S.C. 41307(b)(1), the Commission must determine whether filed agreements are likely, by a reduction in competition, to produce an unreasonable reduction in transportation service or an unreasonable increase in transportation cost. If it is shown, based on information collected under this rule, that an agreement is likely to have the foregoing adverse effects, the Commission may bring suit in the U.S. District Court for the District of Columbia to enjoin the operation of that agreement. Other than an agreement filed under section 5 of the Act, the information collected may not be disclosed to the public except as may be relevant to an administrative or judicial proceeding, and disclosure to Congress.

Frequency: This information is collected generally on a quarterly basis or as required under the rules.

Type of Respondents: The types of respondents are ocean common carriers and MTOs subject to the Shipping Act of 1984.

Number of Annual Respondents: The Commission estimates a potential annual respondent universe of 462 entities.

Estimated Time per Response: The average time for filing agreements, including the preparation and submission of information required on Form FMC-150, Information Form for Agreements Between or Among Ocean Common Carriers, is estimated to be 8.4 person-hours per response. The average time for completing Form FMC-151, Monitoring Report for Agreements Between or Among Ocean Common Carriers, is estimated to be between 20 and 155 person-hours per response, depending on the complexity of the required information. The average time for reporting for all responses is 9.1 person-hours.

Total Annual Burden: The Commission estimates the total person-hour burden at 13,629 person-hours.

Karen V. Gregory,
Secretary.

[FR Doc. 2013-22008 Filed 9-9-13; 8:45 am]

BILLING CODE 6730-01-P